DEPARTMENT OF EDUCATION

[Docket No.: ED-2023-SCC-0044]

Agency Information Collection Activities; Submission to the Office of Management and Budget for Review and Approval; Comment Request; Revocation of Consent To Share Federal Tax Information Form

AGENCY: Federal Student Aid (FSA), Department of Education (ED).

ACTION: Notice.

SUMMARY: In accordance with the Paperwork Reduction Act (PRA) of 1995, the Department is proposing a new information collection request (ICR).

DATES: Interested persons are invited to submit comments on or before July 31, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Beth Grebeldinger, 202-377-4018.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Revocation of Consent to Share Federal Tax Information Form.

OMB Control Number: 1845-NEW.

Type of Review: A new ICR.

Respondents/Affected Public: Individuals and Households.

Total Estimated Number of Annual Responses: 15,300.

Total Estimated Number of Annual Burden Hours: 518.

Abstract: The FUTURE Act allows Federal Student Aid to receive customers' federal tax information (FTI) from the Internal Revenue Service (IRS) through the Internal Revenue Code § 6103 for the purposes of administering the Free Application for Federal Student Aid (FAFSA®) form, and income-driven repayment (IDR) plans. Since customers will be required to provide consent for this process, we also need to provide an option for them to revoke consent. This is a request for a new information collection for the form which will allow individuals to revoke previous consent for FTI for the purposes of administration of title IV, Higher Education Act of 1965, as amended, student financial aid activities. The paper form is an alternative option to the web flow to revoke consent for the IDR application. There has been a change in the burden estimate. The revocation now only applies to IDR forms and the information is collected for no other purpose than to apply the applicants request to the IDR application and to keep it on file for any subsequent requests.

Dated: June 26, 2023.
Kun Mullan,
PRA Coordinator, Strategic Collections and Clearance Governance and Strategy Division, Office of Chief Data Officer, Office of Planning, Evaluation and Policy Development.

[FR Doc. 2023-13901 Filed 6-29-23; 8:45 am]

BILLING CODE 4000-01-P